DEPARTMENT OF DEFENSE

Office of the Secretary

[Transmittal No. 20-63]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-63 with attached Policy Justification and Sensitivity of Technology.

Dated: November 25, 2020.
Kayyonne T. Marston,
Alternate OSD Federal Register Liaison Officer, Department of Defense.

BILLING CODE 5001-06-P

BILLING CODE 5001-06-C

Transmittal No. 20-63

Notice of Proposed Issuance of Letter of Offer Pursuant to Section 36(b)(1) of the Arms Export Control Act, as Amended

(i) Prospective Purchaser: Government of Japan.

(ii) Total Estimated Value:

Major Defense Equipment * | $50.311 million
Other | $ 5.000 million
Total | $55.311 million

(iii) Description and Quantity or Quantities of Articles or Services under Consideration for Purchase:

Major Defense Equipment (MDE): Up to fifty-one (51) Rolling Airframe Missiles (RAM) Block 2 Tactical Missiles, RIM-116C

Non-MDE:Also included are RAM Guided Missile Round Pack Tri-Pack shipping and storage containers, operator manuals and technical documentation, U.S. Government and contractor engineering, technical and logistics support services, and other related elements of logistical and program support.

(iv) Military Department: Navy (JA-P-AUF).

(v) Prior Related Cases, if any: JA-P-ATK.

(vi) Sales Commission, Fee, etc., Paid, Offered, or Agreed to be Paid: None.

(vii) Sensitivity of Technology Contained in the Defense Article or Defense Services Proposed to be Sold: See Attached Annex.

(viii) Date Report Delivered to Congress: September 28, 2020.

* As defined in Section 47(6) of the Arms Export Control Act.

Policy Justification

Japan—RAM Block 2 Tactical Missiles

The Government of Japan has requested to buy up to fifty-one (51) Rolling Airframe Missiles (RAM) Block 2 Tactical Missiles, RIM-116C. Also included are RAM Guided Missile Round Pack Tri-Pack shipping and storage containers, operator manuals and technical documentation, U.S. Government and contractor engineering, technical and logistics support services, and other related elements of logistical and program support. The estimated total cost is $55.311 million.

This proposed sale will support the foreign policy goals and national security objectives of the United States by improving the security of a major ally that is a force for political stability and economic progress in the Asia-Pacific region. It is vital to U.S. national interest to assist Japan in developing and maintaining a strong and effective self-defense capability.

These RAM Block 2 Tactical missiles will provide significantly enhanced area defense capabilities over critical East Asian and Western Pacific air and sea-lines of communication. Japan will have no difficulty absorbing these missiles into its armed forces.

The proposed sale of this equipment and support will not alter the basic military balance in the region.

The prime contractor will be Raytheon Missiles and Defense Company, Tucson, AZ. There are no known offset agreements proposed in connection with this potential sale.

Implementation of this sale will not require the assignment of U.S. Government or contractor representatives in Japan.

There will be no adverse impact on U.S. defense readiness as a result of this proposed sale.

Transmittal No. 20-63

Notice of Proposed Issuance of Letter of Offer Pursuant to Section 36(b)(1) of the Arms Export Control Act

Annex

Item No. vii

(vii) Sensitivity of Technology:

1. The RIM-116C Rolling Airframe Missile (RAM) is an autonomous (i.e., “fire and forget”) lightweight, supersonic, surface-to-air tactical missile for ship self-defense against current and evolving anti-ship cruise missile threats. Advanced technology in the RIM-116C includes dual-mode RF/IR (radio frequency/infrared) guidance with IR all-the-way capability for non-emitting threats.

2. The Rolling Airframe Missile (RAM) is a product of a cooperative program with Germany and has been executed, since 1976, under a series of governing Memoranda of Understanding/Memoranda of Agreements (MOU/MOAs) for the development, production, and in-service support between the United States and Germany.

3. The highest level of classification of information included in this potential sale is CONFIDENTIAL.

4. If a technologically advanced adversary were to obtain knowledge of the specific hardware and software elements, the information could be used to develop countermeasures that might reduce weapon system effectiveness or be used in the development of a system with similar or advanced capabilities.

5. A determination has been made that Japan can provide substantially the same degree of protection for the sensitive technology being released as the U.S. Government. This sale is necessary in furthering U.S. foreign policy and national security objectives outlined in the Policy Justification.

6. All defense articles and services listed in this transmittal have been authorized for release and export to Japan.

[FR Doc. 2020-26539 Filed 12-1-20; 8:45 am]

BILLING CODE 5001-06-P